NATIONAL CREDIT UNION ADMINISTRATION

Sunshine Act Meeting

TIME AND DATE: 10 a.m., Thursday, March 15, 2012.

PLACE: Board Room, 7th Floor, Room 7047, 1775 Duke Street (All visitors must use Diagonal Road Entrance), Alexandria, VA 22314-3428.

STATUS: Open.

MATTERS TO BE CONSIDERED: 1. Final Rule—Parts 701, 760 and 790 of NCUA's Rules and Regulations, Technical Amendments.

2. NCUA's Diversity and Inclusion Strategic Plan.

3. Quarterly Insurance Fund Report.

RECESS: 10:45 a.m.

TIME AND DATE: 11 a.m., Thursday, March 15, 2012.

PLACE: Board Room, 7th Floor, Room 7047, 1775 Duke Street, Alexandria, VA 22314-3428.

STATUS: Closed.

MATTERS TO BE CONSIDERED: 1. Creditor Claim Appeal. Closed pursuant to exemptions (6) and (8).

2. Consideration of Supervisory Activities. Closed pursuant to exemptions (8), (9)(i)(B) and 9(ii).

FOR FURTHER INFORMATION CONTACT: Mary Rupp, Secretary of the Board, Telephone: 703-518-6304.

Mary Rupp,
Board Secretary.

[FR Doc. 2012-6005 Filed 3-8-12; 4:15 pm]

BILLING CODE 7535-01-P